ENVIRONMENTAL PROTECTION AGENCY

[FRL-OW-6883-9]

Notice of Intent To Develop Ambient Water Quality Criteria for Protection of Human Health—Arsenic, Methylmercury, and Carbofuran; Notice of Data Availability; Request for Data and Information

AGENCY: Environmental Protection Agency (EPA).

ACTION: Notice of intent to revise ambient water quality criterion for protection of human health for arsenic; notice of intent to develop ambient water quality criteria for methylmercury and carbofuran; notice of data availability; request for data and information.

SUMMARY: Section 304(a)(1) of the Clean Water Act requires the Environmental Protection Agency (EPA) to develop and publish, and from time to time revise, ambient water quality criteria (AWQC) that accurately reflect the latest scientific knowledge. Today, EPA is notifying the public of its intent to revise the current, recommended human health water quality criterion for arsenic, and to develop recommended criteria for methylmercury, and carbofuran. This notice does not establish a schedule for revision or development of the criteria; the criteria will be revised or developed on differing schedules. EPA expects to have a peer review draft of the methylmercury criterion on the Office of Water web page, http://www.epa.gov/ost/standards/humanhealth/ in the fall of 2000. The arsenic criteria revisions will parallel the development of the Safe Drinking Water Standard for arsenic. Carbofuran criteria development is on a one-year schedule.

The pertinent list of references on the adverse health effects of arsenic is available for viewing at the Office of Water's Docket (W-99-16) for the proposed National Primary Drinking Water Regulation, 65 FR 38888; June 22, 2000. The Agency will be using these references and scientific views and data submitted in response to the proposed maximum contaminant level (MCL) for arsenic in drinking water in revising the human health AWQC for arsenic. Thus, persons who have submitted health effects data to the docket for that proposal or any subsequent notice of data availability with respect to that proposal need not resubmit the same information. However, information about bioaccumulation of arsenic is relevant specifically to the AWQC and should be submitted as noted under the ADDRESSES section. References for methylmercury and carbofuran will be posted on the Office of Science and Technology's website at www.epa.gov/ost/humanhealth/ when they are available. EPA is soliciting any additional pertinent data or scientific views that may be useful in revising the criteria for arsenic, and developing criteria for methylmercury and carbofuran.

DATES: Information submissions should be submitted by November 13, 2000 for methylmercury and by December 11, 2000 for carbofuran and arsenic. Information submitted after this date and too near to the end of the document preparation may not receive the degree of consideration of data submitted earlier.

ADDRESSES: By US mail, send an original and three copies of any data, references or information to W-00-19 Comment Clerk for arsenic; to W-00-20 Comment Clerk for methylmercury; or to W-00-21 Comment Clerk for carbofuran at the Water Docket, MC 4101, US EPA, 1200 Pennsylvania Ave. NW, Washington, D.C. 20460. Material may also be hand delivered to Room EB 57, 401 M Street SW, Washington, DC 20460 between 9:00 am and 3:30 pm EST. When using a private delivery company, send to Room EB 57, 401 M Street SW, Washington, DC 20460 or to Charles O. Abernathy, US EPA (4304), 401 M Street SW, Room 543 West Tower, Washington, DC 20460. Information may also be submitted electronically to OW-Docket@epa.gov. Information should be submitted as a WP5.1, 6.1 and/or 8.0 or an ASCII file with no form of encryption.

FOR FURTHER INFORMATION CONTACT: Charles O. Abernathy, Health and Ecological Criteria Division (4304), US EPA, 1200 Pennsylvania Ave. NW, Washington, D.C. 20460, Washington, D.C. 20460; (202) 260-5374; abernathy.charles@epa.gov (data on toxicity of arsenic); Keith Sappington, Health and Ecological Criteria Division (4304), US EPA, 1200 Pennsylvania Ave. NW, Washington, D.C. 20460; (202) 260-9898; sappington.keith@epa.gov or Erik Winchester, Health and Ecological Criteria Division (4304), US EPA, 1200 Pennsylvania Ave. NW, Washington, D.C. 20460; (202) 260-6107; winchester.erik@epa.gov (data pertaining to bioaccumulation of arsenic, methylmercury, and carbofuran in fish and shellfish); Mary Manibusan, Health and Ecological Criteria Division (4304), US EPA,1200 Pennsylvania Ave. NW, Washington, D.C. 20460; (202) 260-3688; manibusan.mary@epa.gov (data on the toxicity of methylmercury); Amal Mahfouz, Health and Ecological Criteria Division (4304), US EPA, 1200 Pennsylvania Ave. NW, S.W., Washington, D.C. 20460; (202) 260-9568, mahfouz.amal@epa.gov (data on toxicity of carbofuran).

SUPPLEMENTARY INFORMATION:

What Are Human Health Criteria?

Section 304(a)(1) of the Clean Water Act requires the EPA to develop and publish, and from time to time revise, criteria for water accurately reflecting the latest scientific knowledge. AWQC recommended for protection of human health under section 304(a) are based solely on data and scientific judgments. They do not consider economic impacts or the technological feasibility of meeting the criteria in ambient water. Section 304(a) recommended criteria provide guidance to States, Territories and authorized Tribes in adopting water quality standards for protection of human health and provide a scientific basis for developing controls of discharges or releases of pollutants. The criteria also provide a scientific basis for EPA to develop federal regulations under section 303(c).

What Type of Information Does EPA Want From the Public?

Today, EPA is notifying the public of its intent to revise the current human health water quality criterion for arsenic, and to develop criteria for methylmercury and carbofuran. Revisions to the human health section of the water quality criterion for arsenic will be based on the adverse health effects of arsenic as recently reviewed by the National Academy of Sciences' National Research Council (NRC) in the 1999 peer-reviewed report entitled “Arsenic in Drinking Water”, and on other peer-reviewed data in the docket for the MCL proposal; there will be no separate peer review for the health effects information in support of the arsenic AWQC. However, the EPA also consider the potential for bioaccumulation as part of the AWQC and the NRC report does not address this facet. Accordingly, EPA is soliciting any additional pertinent data or scientific views that may be useful in revising or developing the human health section including the available data on the toxicity and bioaccumulation of arsenic and arsenic compounds in fish and shellfish. The lists of references identified by the Agency on health effects of arsenic will be available at the Water Docket W-99-16 or on the Office of Science and Technology's website at: www.epa.gov/ost/humanhealth/. In particular, EPA is interested in obtaining; (1) any data, not discussed by the NRC report or identified by the Agency's literature review on the chronic toxicity of arsenic and arsenic compounds to human health [Refer to Water Docket W-99-16] , (2) any data or scientific view on the toxicity and bioaccumulation of arsenic and arsenic compounds in fish and shellfish and, (3) scientific views on the interpretation of data or on the application of the Agency's methodology for deriving the human health criteria for arsenic. Any data submitted must be adequately documented and contain enough supporting information to indicate that acceptable test procedures were used and that the results are likely reliable.

The Agency has recently completed a comprehensive literature review on the human health effects of methylmercury and carbofuran. In addition EPA has received the recent report of the National Academy of Sciences, National Research Council on methylmercury: Toxicological Effects of Methylmercury. EPA will be considering this report in the development of the human health criterion for methylmercury. References identified by the Agency for these chemicals will be put on the Office of Science and Technology's web site at: www.epa.gov/ost/humanhealth/. EPA is soliciting any additional pertinent data or scientific views that may be useful in revising or developing the ambient water human health criteria for arsenic, methylmercury and carbofuran. In particular, the Agency is interested in acquiring from the public any new data that have not been identified by EPA. When the Agency has developed new human health water quality criteria for arsenic, methylmercury and carbofuran, their availability will be announced in the Federal Register. Additional data and comments will be considered in any subsequent revisions to the criteria.

Where Can I Find More Information on EPA's Revised Process for Developing New or Revised Criteria?

The Agency published detailed information about its revised process for developing and revising AWQC in the Federal Register on December 10, 1998 (63 FR68354) and in the EPA document entitled, National Recommended Water Quality Criteria—Correction (EPA 822-Z-99-001, April 1999). The revised process is to provide additional opportunities for public input, and to increase the efficiency of the water quality criteria development process.

Dated: October 2, 2000.
Geoffrey H. Grubbs,
Director, Office of Science and Technology.

[FR Doc. 00-26222 Filed 10-11-00; 8:45 am]

BILLING CODE 6560-50-P